TRADE AND DEVELOPMENT AGENCY

Notice of Public Information Collection Requirements Submitted to OMB for Review

AGENCY: United States Trade and Development Agency.

ACTION: Request for comments.

SUMMARY: U.S. Trade and Development Agency (USTDA) has submitted the following information collection to the Office of Management and Budget (OMB) for review and clearance under the Paperwork Reduction Act of 1995. USTDA published its first Federal Register Notice on this information collection request on August 25, 2005, at 70 FR 49968, at which time a 60-day comment period was announced. The comment period ended October 24, 2005. No comments were received in response to this notice.

Comments are again being solicited on the following proposed information collection concerning: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology, e.g., permitting electronic submission of responses.

DATES: Comments must be received by OMB by December 19, 2005.

ADDRESSES: Copies of the subject form and the request for review prepared for submission to OMB may be obtained from the Agency Submitting Officer. Comments on the form should be addressed as follows: Attention: Desk Officer for USTDA, Office of Information and Regulatory Affairs, Office of Management and Budget (OMB), Washington, DC 20503.

FOR FURTHER INFORMATION CONTACT: Carolyn Hum, Attn: PRA, 1000 Wilson Boulevard, Suite 1600, Arlington, VA 22209-3901; Tel.: (703) 875-4357, Fax: (703) 875-4009, E-mail: PRA@ustda.gov.

SUPPLEMENTARY INFORMATION: Type of Request: New collection.

Title: Evaluation of USTDA Performance.

Form Number: USTDA 1000E-2005a.

Frequency of Use: Annually for duration of project.

Type of Respondents: Business or other for profit; Not-for-profit institutions; Farms; Federal Government.

Description of Affected Public: U.S. companies and other entities that participate in USTDA-funded activities.

Reporting Hours: 866 hours per year.

Number of Responses: 2600 per year.

Federal Cost: $350,000 per year.

Authority for Information Collection: Government Performance and Results Act of 1993; 103 Pub. L. 62; 107 Stat. 285.

Abstract (Needs and Uses): USTDA and contractors will collect information from various stakeholders on USTDA-funded activities regarding developmental impact and/or commercial objectives as well as evaluate success regarding GPRA and OMB PART objectives.

Dated: November 15, 2005.
Carolyn Hum,
Administrative Officer.

[FR Doc. 05-22876 Filed 11-17-05; 8:45 am]

BILLING CODE 8040-01-P